DEPARTMENT OF HOMELAND SECURITY

Federal Emergency Management Agency

[FEMA-3196-EM]

North Dakota; Amendment No.1 to Notice of an Emergency Declaration

AGENCY: Federal Emergency Management Agency, Emergency Preparedness and Response Directorate, Department of Homeland Security.

ACTION: Notice.

SUMMARY: This notice amends the notice of an emergency declaration for the State of North Dakota (FEMA-3196-EM), dated April 2, 2004, and related determinations.

EFFECTIVE DATE: April 21, 2004.

FOR FURTHER INFORMATION CONTACT: Magda Ruiz, Recovery Division, Federal Emergency Management Agency, Washington, DC 20472, (202) 646-2705.

SUPPLEMENTARY INFORMATION: The notice of an emergency declaration for the State of North Dakota is hereby amended to include the following areas among those areas determined to have been adversely affected by the catastrophe declared an emergency by the President in his declaration of April 2, 2004:

Burke, Mountrail, and Williams Counties for emergency protective measures (Category B) under the Public Assistance program for a period of 48 hours.

(Catalog of Federal Domestic Assistance No. 97.036, Disaster Assistance)
Michael D. Brown,
Under Secretary, Emergency Preparedness and Response, Department of Homeland Security.

[FR Doc. 04-10044 Filed 5-3-04; 8:45 am]

BILLING CODE 9110-10-P